DEPARTMENT OF HOMELAND SECURITY

Coast Guard

[Docket No. USCG-2018-0790]

Information Collection Request to Office of Management and Budget; OMB Control Number: 1625-0006

AGENCY: Coast Guard, DHS.

ACTION: Sixty-day notice requesting comments.

SUMMARY: In compliance with the Paperwork Reduction Act of 1995, the U.S. Coast Guard intends to submit an Information Collection Request (ICR) to the Office of Management and Budget (OMB), Office of Information and Regulatory Affairs (OIRA), requesting an extension of its approval for the following collection of information: 1625-0006, Shipping Articles; without change. Our ICR describes the information we seek to collect from the public. Before submitting this ICR to OIRA, the Coast Guard is inviting comments as described below.

DATES: Comments must reach the Coast Guard on or before December 24, 2018.

ADDRESSES: You may submit comments identified by Coast Guard docket number [USCG-2018-0790] to the Coast Guard using the Federal eRulemaking Portal at https://www.regulations.gov. See the “Public participation and request for comments” portion of the SUPPLEMENTARY INFORMATION section for further instructions on submitting comments.

A copy of the ICR is available through the docket on the internet at https://www.regulations.gov. Additionally, copies are available from: Commandant (CG-612), Attn: Paperwork Reduction Act Manager, U.S. Coast Guard, 2703 Martin Luther King Jr. Ave. SE, Stop 7710, Washington, DC 20593-7710.

FOR FURTHER INFORMATION CONTACT: Mr. Anthony Smith, Office of Information Management, telephone 202-475-3532, or fax 202-372-8405, for questions on these documents.

SUPPLEMENTARY INFORMATION:

Public Participation and Request for Comments

This Notice relies on the authority of the Paperwork Reduction Act of 1995; 44 U.S.C. Chapter 35, as amended. An ICR is an application to OIRA seeking the approval, extension, or renewal of a Coast Guard collection of information (Collection). The ICR contains information describing the Collection's purpose, the Collection's likely burden on the affected public, an explanation of the necessity of the Collection, and other important information describing the Collection. There is one ICR for each Collection.

The Coast Guard invites comments on whether this ICR should be granted based on the Collection being necessary for the proper performance of Departmental functions. In particular, the Coast Guard would appreciate comments addressing: (1) The practical utility of the Collection; (2) the accuracy of the estimated burden of the Collection; (3) ways to enhance the quality, utility, and clarity of information subject to the Collection; and (4) ways to minimize the burden of the Collection on respondents, including the use of automated collection techniques or other forms of information technology. In response to your comments, we may revise this ICR or decide not to seek an extension of approval for the Collection. We will consider all comments and material received during the comment period.

We encourage you to respond to this request by submitting comments and related materials. Comments must contain the OMB Control Number of the ICR and the docket number of this request, [USCG-2018-0790], and must be received by December 24, 2018.

Submitting Comments

We encourage you to submit comments through the Federal eRulemaking Portal at https://www.regulations.gov. If your material cannot be submitted using https://www.regulations.gov, contact the person in the FOR FURTHER INFORMATION CONTACT section of this document for alternate instructions. Documents mentioned in this notice, and all public comments, are in our online docket at http://www.regulations.gov and can be viewed by following that website's instructions. Additionally, if you go to the online docket and sign up for email alerts, you will be notified when comments are posted.

We accept anonymous comments. All comments received will be posted without change to https://www.regulations.gov and will include any personal information you have provided. For more about privacy and the docket, you may review a Privacy Act notice regarding the Federal Docket Management System in the March 24, 2005, issue of the Federal Register (70 FR 15086).

Information Collection Request

Title: Shipping Articles.

OMB Control Number: 1625-0006.

Summary: Title 46 United States Code § 10302 and 10502 and Title 46 Code of Federal Regulations (CFR) 14.201 requires applicable owners, charterers, managing operators, masters, or individuals in charge to make a shipping agreement in writing with each seaman before the seaman commences employment. Additionally 46 CFR 14.313 requires shipping companies to submit to the Coast Guard Shipping Articles three years after the article was generated; or submitted by shipping companies that go out of business or merges with another company; or upon request by the Coast Guard. Upon receipt and acceptance, Shipping Articles are transferred and archived at the Federal Records Center in Suitland, Maryland.

Need: This collection provides verification, identification, location and employment information of U.S. merchant mariners to the following: (1) Federal, state and local law enforcement agencies for use in criminal or civil law enforcement purposes, (2) shipping companies, (3) labor unions, (4) seaman's authorized representatives, (5) seaman's next of kin, (6) whenever the disclosure of such information would be in the best interest of the seaman or his/her family.

Forms: CG-705A; Shipping Articles.

Respondents: Shipping companies.

Frequency: On occasion.

Hour Burden Estimate: The estimated annual burden remains 18,000 hours a year.

Authority: The Paperwork Reduction Act of 1995; 44 U.S.C. Chapter 35, as amended.

Dated: October 18, 2018.
James D. Roppel,
U.S. Coast Guard, Acting Chief, Office of Information Management.

[FR Doc. 2018-23167 Filed 10-23-18; 8:45 am]

BILLING CODE 9110-04-P